DEPARTMENT OF THE INTERIOR

Bureau of Land Management

[LLWYP00000-L51100000-GA0000-LVEMK09CK330; WYW172585]

Notice of Availability of the Record of Decision for the Final Environmental Impact Statement and the South Gillette Area West Coal Creek Coal Lease-by-Application, Wyoming

AGENCY: Bureau of Land Management, Interior.

ACTION: Notice of availability.

SUMMARY: In accordance with the National Environmental Policy Act of 1969, the Bureau of Land Management (BLM) announces the availability of the Record of Decision (ROD) for the West Coal Creek Coal Lease-by-Application (LBA) included in the South Gillette Area Coal Lease Applications Final Environmental Impact Statement (EIS).

ADDRESSES: The document is available electronically on the following Web site: http://www.blm.gov/wy/st/en/info/NEPA/HighPlains/SouthGillette.html. Paper copies of the ROD are also available at the following BLM office locations:

• Bureau of Land Management, Wyoming State Office, 5353 Yellowstone Road, Cheyenne, Wyoming 82009; and

• Bureau of Land Management, Wyoming High Plains District Office, 2987 Prospector Drive, Casper, Wyoming 82604.

FOR FURTHER INFORMATION CONTACT: Ms. Teresa Johnson, EIS Project Manager, at 307-261-7510 or Mr. Tyson Sackett, Acting Wyoming Coal Coordinator, at 307-775-6487. Ms. Johnson's office is located at the BLM High Plains District Office, 2987 Prospector Drive, Casper, Wyoming 82604. Mr. Sackett's office is located at the BLM Wyoming State Office, 5353 Yellowstone Road, Cheyenne, Wyoming 82009.

SUPPLEMENTARY INFORMATION: The West Coal Creek coal tract ROD addresses leasing Federal coal in Campbell County, Wyoming, administered by the BLM Wyoming High Plains District Office. The BLM approves Alternative 1, the No Action alternative for this LBA in the South Gillette Area Coal Final EIS, which is to reject this application. A large portion of the West Coal Creek LBA study area contains lands held by a qualified surface owner who currently has not consented to coal leasing. As a result, the BLM has determined that there are insufficient coal reserves in the remaining lands within the study area to configure a tract that would be in the public interest. Rejection of the lease application does not preclude an application to lease the same tract, or a tract configured with the lands included in the study area, in the future. The BLM will not schedule or conduct a competitive coal lease sale for the West Coal Creek LBA.

This decision is subject to appeal to the Interior Board of Land Appeals (IBLA), as provided in 43 CFR part 4, within thirty (30) days from the date of publication of this NOA in the Federal Register. The ROD contains instructions for filing an appeal with the IBLA.

Donald A. Simpson,
State Director.

[FR Doc. 2011-14238 Filed 6-9-11; 8:45 am]

BILLING CODE 4310-22-P